DEPARTMENT OF THE INTERIOR

Fish and Wildlife Service

[Docket No. FWS-R2-ES-2017-0105; FXES11140200000-189-FF02ENEH00]

Environmental Impact Statement for the American Electric Power American Burying-Beetle Habitat Conservation Plan in Arkansas, Oklahoma, and Texas

AGENCY: Fish and Wildlife Service, Interior.

ACTION: Notice of availability: Notice of receipt of a permit application; and announcement of public meetings.

SUMMARY: We, the U.S. Fish and Wildlife Service (FWS), announce the availability of the environmental impact statement (EIS) and habitat conservation plan (HCP) for incidental take permit (ITP) application under the Endangered Species Act of 1973, as amended. American Electric Power (AEP) requested a 30-year American burying beetle (ABB) ITP in Oklahoma, Arkansas, and Texas. If granted, the ITP would authorize ABB take resulting from AEP's electrical lines and support facilities repair, maintenance, and construction, as well as activities carried out as part of the HCP's conservation strategy.

DATES: Comments: We will accept comments received or postmarked on or before August 17, 2018. Comments submitted electronically at http://www.regulations.gov (see Public Participation under SUPPLEMENTARY INFORMATION) must be received by 11:59 p.m. Eastern time on the closing date. Any comments we receive after the closing date may not be considered in the final decision on these actions.

ADDRESSES: See Public Participation under SUPPLEMENTARY INFORMATION for how to obtain documents for review and submit comments.

FOR FURTHER INFORMATION CONTACT: Jonna Polk, Field Supervisor, via U.S. mail at Oklahoma Ecological Services Field Office, U.S. Fish and Wildlife Service, 9014 E 21st St., Tulsa, OK 74129; or via phone at 918-581-7458.

SUPPLEMENTARY INFORMATION: We, the U.S. Fish and Wildlife Service (FWS), announce the availability of several documents related to an incidental take permit (ITP) application under the Endangered Species Act of 1973, as amended (ESA; 16 U.S.C. 1531 et seq.). American Electric Power (AEP) requested a 30-year American burying beetle (Nicrophorus americanus; ABB) ITP in Oklahoma, Arkansas, and Texas. If granted, the ITP would authorize ABB incidental take resulting from AEP's electrical lines and support facilities repair, maintenance, and construction, as well as activities carried out as part of the HCP's conservation strategy. In addition to this notice of the environmental impact statement (EIS), the Environmental Protection Agency (EPA) is publishing a notice announcing the EIS, as required under the Clean Air Act, section 309 (42 U.S.C. 7401 et seq.; see EPA's Role in the EIS Process below).

Background

Section 9 of the ESA and its implementing regulations prohibit “take” of fish and wildlife species listed as threatened or endangered. However, section 10(a) authorizes us to issue permits to take listed wildlife species where take is incidental to, and not the purpose of, otherwise lawful activities and where the applicant meets certain statutory requirements.

We prepared a notice of intent (NOI) to prepare a EIS for American Electric Power's (AEP) habitat conservation plan (HCP), which was published in the Federal Register on January 19, 2017 (82 FR 6625). We held four public scoping meetings throughout the Plan Area in Arkansas, Oklahoma, and Texas in February 2017. We incorporated issues identified during the initial scoping meetings into the EIS, dated March 2018. You can find a summary of the comments we received during the scoping period in the EIS, Appendix D.

Proposed Action

Our proposed Federal action evaluated in the EIS is approving AEP's HCP and issuing an incidental take permit (ITP) under section 10(a)(1)(B) of the ESA. The ITP would authorize ABB incidental take that may result from covered activities in the plan area over the 30-year ITP term.

EPA's Role in the EIS Process

In addition to our publication of this notice, EPA is publishing a notice in the Federal Register announcing the EIS for American Electric Power's American-burying Beetle Habitat Conservation Plan in Oklahoma, Arkansas, and Texas, as required under the Clean Air Act, section 309. The EPA's publication date of the notice of availability is the official beginning of the public comment period. The EPA is charged with reviewing all Federal agencies' EISs and commenting on the adequacy and acceptability of the environmental impacts of proposed actions in EISs.

The EPA also serves as the repository (EIS database) for EISs which Federal agencies prepare. All EISs must be filed with EPA, which publishes a notice of availability on Fridays in the Federal Register. For more information, see https://www.epa.gov/nepa. You may search for EPA comments on EISs, along with EISs themselves, at https://cdxnodengn.epa.gov/cdx-enepa-public/action/eis/search.

Public Participation

Public Meetings

We will hold four public meetings, one each in McAlester, OK; Texarkana, TX; Little Rock, AR; and Tulsa, OK, during the public comment period. The dates, times, and specific locations of the meetings will be announced in local newspapers at least two weeks before the meetings and will also be posted on our Oklahoma website, at https://www.fws.gov/southwest/es/Oklahoma/. The public meetings will be physically accessible to people with disabilities. Please direct requests for reasonable accommodations (e.g., auxiliary aids or sign language interpretation) to Larry Levesque, by phone at 918-382-4509 or via email at laurence_levesque@fws.gov, at least 5 working days prior to the date of the meeting you wish to attend.

Obtaining Documents for Review

• Environmental Impact Statement (EIS) and Habitat Conservation Plan (HCP): You may obtain copies of the EIS and HCP by any of the following methods.

Internet:

• http://www.regulations.gov (search for Docket No. FWS-R2-ES-2017-0105).

• http://www.fws.gov/southwest/es/Oklahoma (search for permit number TE81211C-0).

U.S. Mail: Field Supervisor (at the address in FOR FURTHER INFORMATION CONTACT; reference “OKES HCP EIS; TE81211C-0”).

In-Person: Copies of the EIS and HCP are also available for public inspection and review at the following locations, by appointment and written request only, 8 a.m. to 4:30 p.m.:

• Oklahoma Ecological Services Field Office (at the address in FOR FURTHER INFORMATION CONTACT).

• U.S. Fish and Wildlife Service; 500 Gold Avenue SW, Room 6034, Albuquerque, NM 87102 (telephone: 505-248-6920).

• Department of the Interior, Natural Resources Library, 1849 C St. NW, Washington, DC 20240.

• Incidental Take Permit Application: You may obtain copies of the incidental take permit application by any of the following methods.

U.S. Mail: Regional Director, U.S. Fish and Wildlife Service, P.O. Box 1306, Room 6034, Albuquerque, NM 87103 (attention: Environmental Review Branch).

Email: fw2_HCP_Permits@fws.gov.

• Public Comments: View submitted comments on http://www.regulations.gov in Docket No. FWS-R2-ES-2017-0105.

• Comments on the EIS from the Environmental Protection Agency: For how to view comments on the EIS from the Environmental Protection Agency (EPA), or for information on EPA's role in the EIS process, see EPA's Role in the EIS Process under SUPPLEMENTARY INFORMATION.

Submitting Comments

You may submit written comments by one of the following methods:

• Internet: http://www.regulations.gov. Follow the instructions for submitting comments on Docket No. FWS-R2-ES-2017-0105.

• Hard Copy: Submit by U.S. mail or hand-delivery to Public Comments Processing, Attn: FWS-R2-ES-2017-0105; U.S. Fish and Wildlife Service Headquarters, MS: BPHC; 5275 Leesburg Pike, Falls Church, VA 22041-3803.

• Public Meetings: We will also accept written and oral comments at four public meetings, to be announced.

We request that you submit comments by only the methods described above. We will post all information received on http://www.regulations.gov. This generally means we will post any personal information you provide us (see Public Availability of Comments).

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority: We provide this notice under section 10(c) of the ESA and its implementing regulations (50 CFR 17.22 and 17.32) and NEPA and its implementing regulations (40 CFR 1506.6).

Amy L. Lueders,
Regional Director, Southwest Region, U.S. Fish and Wildlife Service.

[FR Doc. 2018-14254 Filed 7-2-18; 8:45 am]

BILLING CODE 4333-15-P